Title 3—

The President

Proclamation 8301 of October 3, 2008

German-American Day, 2008

By the President of the United States of America

A Proclamation

For generations, German Americans have contributed to our Nation's identity, culture, and prosperity. On German-American Day, we recognize the many Americans with German ancestry who helped make our country great, and we celebrate our strong friendship with Germany.

The people of Germany and the United States share important family and cultural ties, and millions of American citizens are of German descent. Some of their forebears were among the first to settle Jamestown, and they and many others like them helped lay the foundation for our country, which has become the most prominent symbol of freedom in the world. Many German Americans have shaped our way of life and added to our country's rich heritage.

In celebrating German-American Day, we honor generations of German Americans who came to our shores with dreams of opportunity and contributed to the greatness of our country.

NOW, THEREFORE, I, GEORGE W. BUSH, President of the United States of America, by virtue of the authority vested in me by the Constitution and laws of the United States, do hereby proclaim October 6, 2008, as German-American Day. I encourage all Americans to celebrate the many contributions German Americans have made to our Nation's liberty and prosperity.

IN WITNESS WHEREOF, I have hereunto set my hand this third day of October, in the year of our Lord two thousand eight, and of the Independence of the United States of America the two hundred and thirty-third.

[FR Doc. E8-23949

Filed 10-6-08; 11:30 am]

Billing code 3195-W9-P